DEPARTMENT OF HEALTH AND HUMAN SERVICES

Meeting of the National Biodefense Science Board

AGENCY: Department of Health and Human Services, Office of the Secretary.

ACTION: Notice.

SUMMARY: The U.S. Department of Health and Human Services is hereby giving notice that the National Biodefense Science Board (NBSB) published the January 25, 2011 Public Meeting notice under exceptional circumstances. The meeting notice was published in the Federal Register on January 13, 2011. This supplemental notice provides the reasons for providing less than 15 calendar days notice.

FOR FURTHER INFORMATION CONTACT: E-mail: NBSB@HHS.GOV.

SUPPLEMENTARY INFORMATION: Pursuant to section 319M of the Public Health Service Act (42 U.S.C. 247d-7f) and section 222 of the Public Health Service Act (42 U.S.C. 217a), the Department of Health and Human Services established the National Biodefense Science Board. The Board shall provide expert advice and guidance to the Secretary on scientific, technical, and other matters of special interest to the Department of Health and Human Services regarding current and future chemical, biological, nuclear, and radiological agents, whether naturally occurring, accidental, or deliberate. The Board may also provide advice and guidance to the Secretary and/or the Assistant Secretary for Preparedness and Response on other matters related to public health emergency preparedness and response.

Background: The Assistant Secretary for Preparedness and Response has asked that a meeting of the Board be called to consider a request for recommendations on how to include a science response as part of the response to disasters. The Secretary has recently invited six individuals to serve as members of the Board due to the expiration of 3-year terms for six members on December 31, 2010. The new members require on-boarding and swearing-in. As a result of the logistics of scheduling the availability of the new members and the continuing voting members, as well as ASPR leadership, there are exceptional circumstances that prevent the normal 15 calendar days notice for this meeting. This is a special meeting of the Board. The next scheduled meeting of the Board will be announced in the Federal Register within the required timeframe established by the Federal Advisory Committee Act.

Availability of Materials: The meeting agenda and materials will be posted on the NBSB Web site at http://www.phe.gov/Preparedness/legal/boards/nbsb/Pages/default.aspx.

Dated: January 14, 2011.
Nicole Lurie,
Assistant Secretary for Preparedness and Response.

[FR Doc. 2011-1404 Filed 1-24-11; 8:45 am]

BILLING CODE P